DEPARTMENT OF JUSTICE

Drug Enforcement Administration

[Docket No. DEA-372]

Exempt Chemical Preparations Under the Controlled Substances Act

Correction

In Notice document 2022-01112 beginning on page 3335 in the issue of Friday, January 21, 2022, make the following correction:

On page 3343, beginning on the last line of the first column, “This Order is effective [insert Date Thirty Days from the Date of Publication in the Federal Register].” should read “This Order is effective February 22, 2022.”.

[FR Doc. C1-2022-01112 Filed 2-2-22; 8:45 am]

BILLING CODE 0099-10-D